DEPARTMENT OF THE TREASURY

Office of Foreign Assets Control

31 CFR Part 548

Belarus Sanctions Regulations

AGENCY: Office of Foreign Assets Control, Treasury.

ACTION: Final rule.

SUMMARY: The Department of the Treasury's Office of Foreign Assets Control (“OFAC”) is amending the Belarus Sanctions Regulations in the Code of Federal Regulations to revoke a general license authorizing U.S. persons to engage until May 31, 2011, in otherwise prohibited transactions with two blocked entities, Lakokraska OAO and/or Polotsk Steklovolokno OAO.

DATES: Effective Date: This rule is effective February 11, 2011.

FOR FURTHER INFORMATION CONTACT: Assistant Director for Compliance, Outreach & Implementation, tel.: 202/622-2490, Assistant Director for Licensing, tel.: 202/622-2480, Assistant Director for Policy, tel.: 202/622-4855, Office of Foreign Assets Control, or Chief Counsel (Foreign Assets Control), tel.: 202/622-2410, Office of the General Counsel, Department of the Treasury (not toll free numbers).

SUPPLEMENTARY INFORMATION:

Electronic and Facsimile Availability

This document and additional information concerning OFAC are available from OFAC's Web site (http://www.treas.gov/ofac). Certain general information pertaining to OFAC's sanctions programs also is available via facsimile through a 24-hour fax-on-demand service, tel.: 202/622-0077.

Background

Following the December 19, 2010 presidential elections in Belarus and the announcement by state-run media on election night that President Lukashenko had received approximately 80 percent of the vote, some opposition candidates and their supporters gathered at Independence Square in the Belarusian capital, Minsk, to protest. Belarusian riot police beat and arrested over 600 protesters, including most of the opposition candidates and many journalists, human rights activists, and civil society representatives. Press reports indicate that as of January 18, at least 31 protesters (including several opposition candidates) remain in jail, facing up to 15 years in prison on charges of organizing or participating in mass riots. Since the demonstration, the government has engaged in a further crackdown against offices and members of political parties, civil society and independent media.

While the Organization for Security and Co-operation in Europe's (OSCE) Office for Democratic Institutions and Human Rights (ODIHR) noted that the presidential election showed certain improvements over previous elections, ODIHR observed significant flaws during the vote count. ODIHR determined that the lack of transparency in the vote count undermined any improvements in the electoral process. The post-election violence further marred the presidential elections and drew condemnation from the United States and the European Union. On December 23, 2010, U.S. Secretary of State Hillary Clinton and EU High Representative Catherine Ashton issued a joint statement calling for the immediate release of all opposition protesters taken into custody following the presidential elections. Secretary Clinton and High Representative Ashton also deemed the flawed vote count and post-election violence an “unfortunate step backwards” for democracy and human rights in Belarus.

In light of these recent developments and the decision by the Government of Belarus to close the Minsk office of the OSCE, OFAC is amending the Belarus Sanctions Regulations, 31 CFR part 548 (the “Regulations”), to revoke the general license in section 548.509 authorizing U.S. persons to engage until May 31, 2011, in all otherwise prohibited transactions with two blocked entities, Lakokraska OAO and/or Polotsk Stoklovolokno OAO. This license had been issued in 2008 in response to the Belarusian Government's release of its political prisoners. The revocation of the general license in section 548.509 of the Regulations will be effective on February 11, 2011. This delayed effective date gives U.S. persons a reasonable period of time to wind down and terminate any transactions previously entered into with Lakokraska OAO and/or Polotsk Stoklovolokno OAO under section 548.509 of the Regulations.

Public Participation

Because the amendments of the Regulations involve a foreign affairs function, the provisions of Executive Order 12866 and the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The collections of information related to the Regulations are contained in 31 CFR part 501 (the “Reporting, Procedures and Penalties Regulations”). Pursuant to the Paperwork Reduction Act of 1995 (44 U.S.C. 3507), those collections of information have been approved by the Office of Management and Budget under control number 1505-0164. An agency may not conduct or sponsor, and a person is not required to respond to, a collection of information unless the collection of information displays a valid control number.

List of Subjects in 31 CFR Part 548

Administrative practice and procedure, Banks, Banking, Belarus, Blocking of assets, Credit, Foreign trade, Penalties, Reporting and recordkeeping requirements, Securities, Services.

For the reasons set forth in the preamble, the Department of the Treasury's Office of Foreign Assets Control amends 31 CFR part 548 as follows:

PART 548—BELARUS SANCTIONS REGULATIONS

1. The authority citation for part 548 continues to read as follows:

Authority: 3 U.S.C. 301; 31 U.S.C. 321(b); 50 U.S.C. 1601-1651, 1701-1706; Pub. L. 101-410, 104 Stat. 890 (28 U.S.C. 2461 note); Pub. L. 110-96, 121 Stat. 1011 (50 U.S.C. 1705 note); E.O. 13405, 71 FR 35485; 3 CFR, 2007 Comp., p. 231.

Subpart E—Licenses, Authorizations, and Statements of Licensing Policy

§ 548.509 [Removed]

2. Remove § 548.509.

Dated: January 25, 2011.
Adam J. Szubin,
Director, Office of Foreign Assets Control.

[FR Doc. 2011-2178 Filed 1-31-11; 8:45 am]

BILLING CODE 4810-AL-P